DEPARTMENT OF JUSTICE

National Drug Intelligence Center; Agency Information Collection Activities: Proposed Collection; Comments Requested

ACTION: 60-day notice of information collection under review; reinstatement, with change, of a previously approved collection for which approval has expired. National drug threat survey.

The United States Department of Justice, National Drug Intelligence Center has submitted the following information collection request to the Office of Management and Budget (OMB) for review and approval in accordance with the Paperwork Reduction Act of 1995. The proposed information collection is published to obtain comments from the public and affected agencies. Comments are encouraged and will be accepted until February 4, 2003. This process is in accordance with 5 CFR 1320.10.

If you have any comments, especially on the estimated public burden or associated response time, or suggestions, or need a copy of the proposed information collection instrument with instructions or additional information, please contact Manuel A. Rodriguez, General Counsel, National Drug Intelligence Center, Fifth Floor, 319 Washington Street, Johnstown, PA 15901.

Written comments and suggestions from the public and affected agencies concerning the proposed collection of information are encouraged. Your comments should address one or more of the following four points:

(1) Evaluate whether the collection of information is necessary for the proper performance of the functions of the agency, including whether the information will have practical utility;

(2) Evaluate the accuracy of the agency's estimate of the burden of the collection of information, including the validity of the methodology and assumption used;

(3) Enhance the quality, utility, and clarity of the information to be collected; and

(4) Minimize the burden of the collection of information on those who are to respond, including through the use of appropriate automated, electronic, mechanical, or other technological collection techniques or other forms of information technology (e.g., permitting electronic submission of responses).

Overview of this information collection:

(1) Type of Information Collection: Reinstatement, with change, of a previously approved collection for which approval has expired.

(2) Title of the Form/Collection: National Drug Threat Survey.

(3) Agency form number, if any, and the applicable component of the Department of Justice sponsoring the collection: NDIC Form #A-34c, National Drug Intelligence Center.

(4) Affected public who will be asked to respond, as well as a brief abstract: Primary: Federal State and Local law enforcement agencies. This survey is a critical component of the National Drug Threat Assessment. It provides direct access to detailed drug offense data from state and local law enforcement agencies.

(5) An estimate of the total number of respondents and the amount of time estimated for an average respondent to respond: There are approximately 3500 respondents who will each require an average of 30 minutes to respond.

(6) An estimate of the total public burden (in hours) associated with the collection. The total annual public burden hours for this information collection is estimated to be 1750 hours.

If additional information is required contact: Mr. Robert B. Briggs, Clearance Officer, United States Department of Justice, Information Management and Security Staff, Justice Management Division, 601 D Street, NW., Washington, DC 20004.

Dated: December 2, 2002.
Robert B. Briggs,
Clearance Officer, Department of Justice.

[FR Doc. 02-30876 Filed 12-5-02; 8:45 am]

BILLING CODE 4410-DC-M